Title 3—

The President

Proclamation 8172 of September 4, 2007

National Historically Black Colleges and Universities Week, 2007

By the President of the United States of America

A Proclamation

Education is a fundamental part of achieving the American dream, and Historically Black Colleges and Universities (HBCUs) help ensure that every student has the opportunity to pursue a quality education. During Historically Black Colleges and Universities Week, we underscore our commitment to these distinguished institutions in their efforts to provide more Americans with the tools to realize their dreams.

The founding of many of our Historically Black Colleges and Universities over a century ago expanded the American education system and extended the opportunity of a higher education to some who had been wrongly denied access. Today, HBCUs throughout our Nation continue to be centers of quality education, advancing opportunity and inspiring individuals to meet the challenges of our time as responsible leaders.

My Administration has increased Federal support for HBCUs and remains committed to strengthening these colleges and universities. The HBCU Capital Financing Program has provided access to funds for infrastructure repairs, educational equipment, and construction of new facilities. The President's Board of Advisors on Historically Black Colleges and Universities works to help HBCUs develop new partnerships with the private sector and benefit from Federal programs to strengthen and advance faculty development and cooperative research.

We will continue to provide our strong support to HBCUs, so that every citizen can enjoy a future of hope and opportunity, and we salute these great institutions as they build on a foundation of continued success for every student.

NOW, THEREFORE, I, GEORGE W. BUSH, President of the United States of America, by virtue of the authority vested in me by the Constitution and laws of the United States, do hereby proclaim September 9 through September 15, 2007, as National Historically Black Colleges and Universities Week. I call upon public officials, educators, librarians, and all the people of the United States to observe this week with appropriate programs, ceremonies, and activities in respect and appreciation for the contributions these valuable institutions and their graduates have made to our country.

IN WITNESS WHEREOF, I have hereunto set my hand this fourth day of September, in the year of our Lord two thousand seven, and of the Independence of the United States of America the two hundred and thirty-second.

[FR Doc. 07-4421

Filed 9-6-07; 10:09 am]

Billing code 3195-01-P